DEPARTMENT OF ENERGY

Office of Fossil Energy; Coal Policy Committee of the National Coal Council

AGENCY: Department of Energy.

ACTION: Notice of open meeting.

SUMMARY: This notice announces a meeting of the Coal Policy Committee of the National Coal Council. Federal Advisory Committee Act (Pub. L. 92-463, 86 Stat. 770) requires notice of these meetings be announced in the Federal Register.

DATES: Wednesday, November 8, 2000, 1-3 p.m.

ADDRESSES: Crowne Plaza Hotel, McPherson Square Room, 14th & K Streets, NW., Washington, DC

FOR FURTHER INFORMATION CONTACT: Margie D. Biggerstaff, U.S. Department of Energy, Office of Fossil Energy, Washington, DC 20585. Phone: 202/586-3867.

SUPPLEMENTARY INFORMATION:

Purpose of the Committee

The purpose of the Coal Policy Committee of the National Coal Council is to provide advice, information, and recommendations to the Secretary of Energy on matters relating to coal and coal industry issues. The purpose of this meeting is to discuss Federal and State developments affecting coal and studies the Council might undertake.

Tentative Agenda

• Call to order by Mr. Malcolm Thomas, Chairman, Coal Policy Committee.

• Discussion of current Federal and State developments affecting coal.

• Discussion of possible new studies to be undertaken by the National Coal Council.

• Discussion of other business properly brought before the Coal Policy Committee.

• Public comment—10 minute rule.

• Adjournment.

Public Participation

The meeting is open to the public. The Chairperson of the Committee will conduct the meeting to facilitate the orderly conduct of business. If you would like to file a written statement with the Committee, you may do so either before or after the meeting. If you would like to make oral statements regarding any of the items on the agenda, you should contact Margie D. Biggerstaff at the address or telephone number listed above. You must make your request for an oral statement at least five business days prior to the meeting, and reasonable provisions will be made to include the presentation on the agenda. Public comment will follow the 10 minute rule. This notice is being published less than 15 days before the date of the meeting due to programmatic issues that had to be resolved prior to publication.

Transcripts

The transcript will be available for public review and copying within 30 days at the Freedom of Information Public Reading Room, 1E-190, Forrestal Building, 1000 Independence Avenue, SW., Washington, DC, between 9 a.m. and 4 p.m., Monday through Friday, except Federal holidays.

Issued in Washington, D.C. on October 23, 2000.
Rachel M. Samuel,
Deputy Advisory Committee Management Officer.

[FR Doc. 00-27538 Filed 10-25-00; 8:45 am]

BILLING CODE 6450-01-P